DEPARTMENT OF THE INTERIOR

Bureau of Ocean Energy Management

[OMB Number 1010-0106]

Information Collection: Oil Spill Financial Responsibility for Offshore Facilities; Submitted for OMB Review; Comment Request MMAA104000

ACTION: 30-day notice.

SUMMARY: To comply with the Paperwork Reduction Act of 1995 (PRA), the Bureau of Ocean Energy Management (BOEM) is notifying the public that we have submitted an information collection request (ICR) to the Office of Management and Budget (OMB) for review and approval. The information collection request (ICR) concerns the paperwork requirements for 30 CFR 553, Oil Spill Financial Responsibility for Offshore Facilities, as well as the revised forms. The OMB previously approved this information collection activity, and assigned it control number 1010-0106. This notice provides the public a second opportunity to comment on the paperwork burden of this collection.

DATES: Submit written comments by November 28, 2016.

ADDRESSES: Submit comments on this ICR to the Desk Officer for the Department of the Interior at OMB-OIRA at (202) 395-5806 (fax) or OIRA_submission@omb.eop.gov (email). Please provide a copy of your comments to the BOEM Information Collection Clearance Officer, Anna Atkinson, Bureau of Ocean Energy Management, 45600 Woodland Road, 135-C10, Sterling, Virginia 20166 (mail) or anna.atkinson@boem.gov (email). Please reference ICR 1010-0106 in your comment and include your name and return address.

FOR FURTHER INFORMATION CONTACT: Anna Atkinson, Office of Policy, Regulations, and Analysis at (703) 787-1025 (phone). You may review the ICR and revised forms online at http://www.reginfo.gov. Follow the instructions to review Department of the Interior collections under review by OMB.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on August 15, 2016 (81 FR 54123), and the comment period ended October 14, 2016. BOEM received no comments.

Section 3506(c)(2)(A) of the PRA (44 U.S.C. 3501, et seq.) requires each agency “. . . to provide notice . . . and otherwise consult with members of the public and affected agencies concerning each proposed collection of information . . .” BOEM now requests comments to: (a) evaluate whether the collection is necessary or useful; (b) evaluate the accuracy of the burden estimates; (c) enhance the quality, usefulness, and clarity of the information to be collected; and (d) minimize the burden on the respondents, including the use of technology. Please send comments as directed under ADDRESSES and DATES. Please refer to OMB control number 1010-0106 in your correspondence.

The following information pertains to this request:

OMB Control Number: 1010-0106.

Title: 30 CFR 553, Oil Spill Financial Responsibility for Offshore Facilities.

Forms:

• BOEM-1016, Designated Applicant Information Certification;

• BOEM-1017, Appointment of Designated Applicant;

• BOEM-1018, Self-Insurance Information;

• BOEM-1019, Insurance Certificate;

• BOEM-1020, Surety Bond;

• BOEM-1021, Covered Offshore Facilities;

• BOEM-1022, Covered Offshore Facility Changes;

• BOEM-1023, Financial Guarantee; and

• BOEM-1025, Independent Designated Applicant Information Certification.

Abstract: This information collection request addresses the regulations at 30 CFR 553, Oil Spill Financial Responsibility (OSFR) for Offshore Facilities, including any supplementary notices to lessees and operators that provide clarification, description, or explanation of these regulations, and forms BOEM-1016 through 1023 and BOEM-1025.

The BOEM uses the information collected under 30 CFR 553 to verify compliance with section 1016 of the Oil Pollution Act, as amended (OPA). The information is necessary to confirm that applicants can pay for cleanup and damages resulting from oil spills and other hydrocarbon discharges that originate from Covered Offshore Facilities (COFs).

We will protect information from respondents considered proprietary under the Freedom of Information Act (5 U.S.C. 552) and its implementing regulations (43 CFR part 2) and under regulations at 30 CFR 550.197, “Data and information to be made available to the public or for limited inspection.” No items of a sensitive nature are collected. Responses are mandatory.

Frequency: On occasion or annual.

Description of Respondents: Lessees, permittees, and holders of pipeline right-of-way and right-of-use and easement grants.in the Outer Continental Shelf and in State coastal waters who will appoint designated applicants. Other respondents will be the designated applicants' insurance agents and brokers, bonding companies, and guarantors. Some respondents may also be claimants.

Estimated Reporting and Recordkeeping Hour Burden: The estimated annual hour burden for this collection is 22,132 hours. The following table details the individual components and respective hour burden estimates of this ICR.

Burden Breakdown
Citation 30 CFR 553 | Reporting requirement * | Hour burden | Average number of annual reponses | Annual burden hours
Various sections | The burdens for all references to submitting evidence of OSFR, as well as required or supporting information, are covered with the forms below. |  |  | 0
Applicability and Amount of OSFR
11(a)(1); 40; 41 | Form BOEM-1016—Designated Applicant Information Certification | 1 | 200 | 200
11(a)(1); 40; 41 | Form BOEM-1017—Appointment of Designated Applicant | 9 | 600 | 5,400
11(a)(2) | Form BOEM-1025—Independent Designated Applicant Information Certification | 1 | 200 | 200
12 | Request for determination of OSFR applicability. Provide required and supporting information | 2 | 5 | 10
15 | Notify BOEM of change in ability to comply | 1 | 1 | 1
15(f) | Provide claimant written explanation of denial | 1 | 15 | 15
Subtotal |  |  | 1,021 | 5,826
Methods for Demonstrating OSFR
21; 22; 23; 24; 26; 27; 30; 40; 41; 43 | Form BOEM-1018—Self-Insurance Information | 1 | 50 | 50
| Form BOEM-1023—Financial Guarantee | 1.5 | 25 | 38
29; 40; 41; 43 | Form BOEM-1019—Insurance Certificate | 120 | 120 | 14,400
31; 40; 41; 43 | Form BOEM-1020—Surety Bond | 24 | 4 | 96
32 | Proposal and supporting information for alternative method to evidence OSFR (anticipate no proposals, but regulations provide the opportunity) | 120 | 1 | 120
Subtotal |  |  | 200 | 14,704
Requirements for Submitting OSFR Information
40; 41; 43 | Form BOEM-1021—Covered Offshore Facilities | 6 | 200 | 1,200
40; 41; 42 | Form BOEM-1022—Covered Offshore Facility Changes | 1 | 400 | 400
Subtotal |  |  | 600 | 1,600
Claims for Oil-Spill Removal Costs and Damages
Subpart F | Claims: BOEM is not involved in the claims process. Assessment of burden for claims against the Oil Spill Liability Trust Fund (30 CFR parts 135, 136, 137) falls under the responsibility of the U.S. Coast Guard | 0
60(d) | Claimant request for BOEM assistance to determine whether a guarantor may be liable for a claim | 2 | 1 | 2
Subtotal |  |  | 1 | 2
Total Burden |  |  | 1,822 | 22,132
* In the future, BOEM may require specified electronic filing of financial/bonding submissions.

Estimated Reporting and Recordkeeping Non-Hour Cost Burden: We have identified no reporting and recordkeeping non-hour cost burdens for this collection.

Public Availability of Comments: Before including your address, phone number, email address, or other personal identifying information in your comment, you should be aware that your entire comment—including your personal identifying information—may be made publicly available at any time. While you can ask us in your comment to withhold your personal identifying information from public review, we cannot guarantee that we will be able to do so.

Dated: October 17, 2016.
Deanna Meyer-Pietruszka,
Chief, Office of Policy, Regulations, and Analysis.

[FR Doc. 2016-25943 Filed 10-26-16; 8:45 am]

BILLING CODE 4310-MR-P